DEPARTMENT OF JUSTICE

Notice of Lodging of Consent Decree Under the Comprehensive Environmental Response, Compensation and Liability Act

Notice is hereby given that on June 4, 2001, a proposed Consent Decree (“Decree”) in United States v. IBM Corporation, Civil No. 01-B-1017, was lodged with the United States District Court for the District of Colorado. The United States filed this action pursuant to the Comprehensive Environmental Response, Compensation and Liability Act for recovery of costs incurred by the United States in responding to releases of hazardous substances at the Rocky Flats Industrial Park Superfund Site in Jefferson County, Colorado.

Pursuant to the proposed Consent Decree, IBM Corporation will pay $460,000, in reimbursement of past costs.

The Department of Justice will receive for a period of thirty (30) days from the date of this publication comments relating to the Decree. Comments should be addressed to the Assistant Attorney General of the Environment and Natural Resources Division, Department of Justice, Washington, DC 20530, and should refer to, United States v. IBM Corporation, D.J. Ref. #90-11-3-1719/2.

The Decree may be examined at the office of the U.S. Attorney, 1225 17th Street, Denver, Colorado; at U.S. EPA Region 8, Office of Enforcement, 999 18th Street, Denver, CO. A copy of the Decree may be obtained by mail from the Consent Decree Library, U.S. Department of Justice, P.O. Box 7611, Washington, DC 20044. In requesting a copy, please enclose a check in the amount of $3.75 for the Decree (25 cents per page reproduction cost) payable to the Consent Decree Library.

Robert D. Brook,
Assistant Chief, Environmental Enforcement Section, Environment and Natural Resources Division.

[FR Doc. 01-15668 Filed 6-21-01; 8:45 am]

BILLING CODE 4410-15-M